DEPARTMENT OF THE INTERIOR

National Park Service

National Register of Historic Places; Notification of Pending Nominations and Related Actions

Nominations for the following properties being considered for listing or related actions in the National Register were received by the National Park Service before January 29, 2005. Pursuant to section 60.13 of 36 CFR part 60 written comments concerning the significance of these properties under the National Register criteria for evaluation may be forwarded by United States Postal Service, to the National Register of Historic Places, National Park Service, 1849 C Street, NW., 2280, Washington, DC 20240; by all other carriers, National Register of Historic Places, National Park Service, 1201 Eye Street, NW., 8th floor, Washington, DC 20005; or by fax, (202) 371-6447. Written or faxed comments should be submitted by March 10, 2005.

Carol D. Shull,
Keeper of the National Register of Historic Places.

IOWA

Polk County

Seth Richards Commercial Block, 300-310 Court Ave., Des Moines, 05000136

MARYLAND

Baltimore County

Hampton, 535 Hampton Ln., Towson, 05000118

MASSACHUSETTS

Franklin County

Tavern Farm, Old, 817 Colrain Rd., Greenfield, 05000120

MISSOURI

Boone County

Kress Building (Columbia MRA), 1025 E. Broadway, Columbia, 05000122

Lawrence County

Lawrence County Bank Building, 100 W. Commercial St., Pierce City, 05000119

St. Louis Independence City

Franklin School (St. Louis Public Schools of William B. Ittner MPS (AD)), 814 N. 19th St., St. Louis (Independence City), 05000121

NEW JERSEY

Atlantic County

Great Egg Coast Guard Station, 2301 Atlantic Ave., Longport, 05000128

Camden County

Tomlinson, Isaac, House, 834 Blackwood-Clementon Rd., Pine Hill, 05000123

Cape May County

Reeves-Iszard-Godfey House, 3097 Shore Rd., Upper Township, 05000127

Mercer County

Witherspoon Street School for Colored Children, 35 Quarry St., Princeton, 05000125

Morris County

Decker-Kincaid Homestead, 591 Powerville Rd., Boonton, 05000126

Ocean County

Cox, Mary Etta, House, 353 N. Main St., Barnegat, 05000124

OKLAHOMA

Grady County

Chickasha Downtown Historic District, Roughly bounded by First/Third St., Kansas Ave., Seventh St., and the Alley N of Chickasa Ave., Chickasha, 05000132

Grady County Courthouse (County Courthouses of Oklahoma TR), 326 W. Choctaw Ave., Chickasha, 05000131

Kiowa County

Downtown Hobart Historic District, Roughly bounded by Jefferson St., 3rd, Washington, 4th and 200 and 500 blk of S Main St., Hobart, 05000130

VIRGINIA

Albemarle County

Ramsay, 7760 Rockfish Gap Turnpike, Greenwood, 05000135

Chesterfield County

Hallsboro Store, 920 Hallsboro Rd., Midlothian, 05000133

Point of Rocks, 1005 Point of Rocks Rd., Chester, 05000134

A request for REMOVAL has been made for the following resource:

OKLAHOMA

Oklahoma County

Montgomery Ward Building, 500 W. Main St., Oklahoma City, 80003287

[FR Doc. 05-3386 Filed 2-22-05; 8:45 am]

BILLING CODE 4312-05-P